DEPARTMENT OF ENERGY

[Number DE-PS36-03GO93012]

Million Solar Roofs Initiative Small Grant Program for State and Local Partnerships

AGENCY: Golden Field Office, U.S. Department of Energy.

ACTION: Notice of issuance of solicitation for financial assistance applications.

SUMMARY: The U.S. Department of Energy (DOE), pursuant to the DOE Financial Assistance Rules, 10 CFR 600.8, is announcing its intention to solicit applications from State and Local Partnerships under the Million Solar Roofs (MSR) Program. DOE's Office of Energy Efficiency and Renewable Energy will consider proposals from interested State and Local Partnerships to help fund their MSR program development and implementation activities.

DATES: The solicitation will be issued early May 2003.

ADDRESSES: A copy of the solicitation will be accessible through the Golden Field Office Home Page at http://www.go.doe.gov/businessopportunities.html under “Solicitations.” The Golden Home Page will provide direct access to the solicitation and provide instructions on using the DOE Industry Interactive Procurement System (IIPS) Web site. The solicitation can also be obtained directly through IIPS at http://e-center.doe.gov/ by browsing opportunities by Program Office for those solicitations issued by the Golden Field Office. DOE will not issue hard copies of the solicitation.

FOR FURTHER INFORMATION CONTACT: James McDermott, Contacting Officer, at 215-656-6976 or electronically at james.mcdermott@ee.doe.gov. Responses to questions will be posted on the DOE IIPS website.

SUPPLEMENTARY INFORMATION: The Department of Energy's MSR Initiative is an initiative to support State and Local Partnerships who agree to install solar energy systems on one million buildings in the United States (U.S.) by 2010. This effort includes two types of solar energy technology: (1) Solar electric (photovoltaic) systems that produce electricity from sunlight, and (2) solar thermal systems panels that produce heat for domestic hot water, for space heating or for heating swimming pools. The Partnerships bring together business, government and community organizations at the regional level with a commitment to install a pre-determined number (at least 500) of solar energy systems.

A complete description of partnerships and their representative activities can be found on the MSR Web site at http://www.MillionSolarRoofs.org.

Applications under the solicitation must further the work of State and Local Partnerships, including partners in the building industry, state and local governments, utilities, the solar energy industry, financial institutions and non-governmental organizations, to remove market barriers to solar energy use and to develop and strengthen local demand for solar energy products and applications.

There are two types of grants available: Phase 1—New Partnership grants, and Phase 2—Meeting the Commitment grants. Only one application may be submitted per partnership in one or the other of the categories, but not both. Partnerships that have been awarded prior MSR partnership grants in the past may not apply for a Phase 1—New Partnership grant. Newly formed or existing partnerships that have not received prior MSR grants may apply for a Phase 1—New Partnership grant. Any partnership with the prerequisites may apply for a Phase 2—Meeting the Commitment grant.

The project or activity must be conducted in a designated MSR State and Local Partnership area. There is no cost sharing requirement for these grants, although cost sharing will be one of the criteria considered. Subject to the availability of funds, multiple awards for a total of $1,500,000 (DOE funding) in Fiscal Year 2003 are anticipated as a result of this Solicitation. The selected applicants will receive financial assistance under a grant. DOE will fund up to $50,000 per project. DOE anticipates funding approximately 30 to 40 grants in the amount of $10,000 to $50,000 each.

Solicitation number DE-PS36-03GO93012 will include complete information on the program, including technical aspects, funding, application preparation instructions, application evaluation criteria, and other factors that will be considered when selecting applications for funding. No pre-application conference is planned. Issuance of the solicitation is planned for early May 2003, with applications due 45 days after the solicitation has been issued.

Issued in Golden, Colorado, on May 6, 2003.
Jerry L. Zimmer,
Director, Office of Acquisition and Financial Assistance.

[FR Doc. 03-12872 Filed 5-21-03; 8:45 am]

BILLING CODE 6450-01-P